NATIONAL SCIENCE FOUNDATION

Notice of Availability of Final Programmatic Environmental Impact Statement/Overseas Environmental Impact Statement (PEIS/OEIS) for Marine Seismic Research Funded by the National Science Foundation (NSF) or Conducted by the U.S. Geological Survey (USGS)

AGENCY: National Science Foundation.

ACTION: Notice of availability of Final PEIS/OEIS for Marine Seismic Research Funded by NSF or Conducted by the USGS.

SUMMARY: The Division of Ocean Sciences in the Directorate for Geosciences (GEO/OCE) has prepared the Final PEIS/OEIS (hereafter Final PEIS) as the lead agency with support from the cooperating agencies, USGS and the National Marine Fisheries Service (NMFS) of the National Oceanic and Atmospheric Administration (NOAA).

The Final PEIS assesses the potential impacts of marine seismic research on the human and natural environment. Under the Proposed Action, a variety of acoustic sources used for research activities funded by NSF or conducted by the USGS would be operated from various research vessels operated by U.S. academic institutions or government agencies. The seismic acoustic sources would include various airgun configurations (particularly strings or arrays with as little as 2 to as many as 36 seismic airguns), as well as low-energy seismic and non-seismic acoustic sources.

The Final PEIS examines the potential impacts that may result from marine geophysical research using seismic surveys that are funded by NSF or conducted by the USGS in non-Arctic waters. The Proposed Action is for academic and U.S. government scientists in the U.S., and possible international collaborators, to conduct marine seismic research from research vessels operated by U.S. academic institutions and government agencies. The purpose of the Proposed Action is to fund the investigation of the geology and geophysics of the seafloor by collecting seismic reflection and refraction data that reveal the structure and stratigraphy of the crust and/or overlying sediment below the world's oceans. NSF has a continuing need to fund seismic surveys that enable scientists to collect data essential to understanding the complex Earth processes beneath the ocean floor. Two action alternatives and the No-Action Alternative were assessed.

Please note that responses to all comments received (including all written comments and those provided through testimony at the public hearings) on the Draft PEIS (October 2010) are included in Appendix J of the Final PEIS. The transcripts of public hearings are also included in Appendix I. The Final PEIS reflects the changes made to the Draft PEIS based on the comments received. The Final PEIS is now available on the Internet at: http://www.nsf.gov/geo/oce/envcomp/ in Adobe® portable document format (pdf). The Final PEIS has also been distributed to interested Federal, state, and local agencies, organizations, and individuals.

DATES: NSF will issue a record of decision (ROD) for the proposed marine geophysical scientific research using seismic surveys that are funded by NSF or conducted by the USGS following consideration of the entire administrative record for the proposed action, including the Final PEIS. The ROD will be issued in Fall 2011, or at least 30 days after the date of publication in the Federal Register of the U.S. Environmental Protection Agency's Notice of Availability of the Final PEIS. The Final PEIS is available on NSF's Web site at: http://www.nsf.gov/geo/oce/envcomp/index.jsp. Electronic copies of the Final PEIS are also available upon request from: Holly Smith, National Science Foundation, Division of Ocean Sciences, 4201 Wilson Blvd., Suite 725, Arlington, VA 22230. Telephone: (703) 292-8583. E-mail: nepacomments@nsf.gov.

FOR FURTHER INFORMATION CONTACT: For further information regarding the Final PEIS contact: Holly Smith, National Science Foundation, Division of Ocean Sciences, 4201 Wilson Blvd., Suite 725, Arlington, VA 22230; telephone: (703) 292-8583; e-mail: nepacomments@nsf.gov.

Dated: June 24, 2011.
Suzanne H. Plimpton,
Reports Clearance Officer, National Science Foundation.

[FR Doc. 2011-16337 Filed 6-29-11; 8:45 am]

BILLING CODE 7555-01-P